DEPARTMENT OF LABOR

Employment and Training Administration

[TA-W-50,519]

Tyson Foods, Inc., Jacksonville, FL; Notice of Termination of Investigation

Pursuant to Section 221 of the Trade Act of 1974, as amended, an investigation was initiated on January 8, 2003 in response to a worker petition filed by a company official on behalf of workers at Tyson Foods, Inc., Jacksonville, Florida.

The petitioner has requested that the petition be withdrawn. Consequently, further investigation in this case would serve no purpose, and the investigation has been terminated.

Signed at Washington, DC, this 29th day of January, 2003.
Elliott S. Kushner,
Certifying Officer, Division of Trade Adjustment Assistance.

[FR Doc. 03-4274 Filed 2-21-03; 8:45 am]

BILLING CODE 4510-30-P